ENVIRONMENTAL PROTECTION AGENCY

[FRL-7091-7]

Proposed Settlement Under Section 122(h) of the Comprehensive Environmental Response, Compensation and Liability Act

AGENCY: Environmental Protection Agency.

ACTION: Notice of proposed administrative settlement and opportunity for public comment.

SUMMARY: The United States Environmental Protection (EPA) is proposing to enter into an administrative settlement to resolve claims under the Comprehensive Environmental Response, Compensation and Liability Act of 1980 (CERCLA), as amended. Notice is being published to inform the public of the proposed settlement and of the opportunity to comment. This Settlement is intended to resolve Piscataway Associates' and Piscataway Associates Properties Corp's. liability for response costs incurred by EPA at the Chemical Insecticide Corporation Site in Edison Township, New Jersey.

DATES: Comments must be provided on or before November 28, 2001.

ADDRESSES: Comments should be addressed to the Environmental Protection Agency, Office, of Regional Counsel, 290 Broadway—17th Floor, New York, NY 10007 and should refer to: In the Matter of the Chemical Insecticide Corporation Site, EPA Index No. II CERCLA-02-2000-2338.

FOR FURTHER INFORMATION CONTACT: Environmental Protection Agency, Office of Regional Counsel, 290 Broadway—17th Floor, New York, NY 10007, Attention: Juan Fajardo, Esq. (212) 637-3132.

SUPPLEMENTARY INFORMATION: In accordance with section 122(h)(i)(1) of CERCLA, notice is hereby given of a proposed administrative settlement concerning the Chemical Insecticide Corporation Site located in Edison Township, New Jersey. Section 122(h) of CERCLA provides EPA with the authority to consider, compromise and settle certain claims for costs incurred by the United States.

Piscataway Associates and Piscataway Associates Properties Corp. will be notified by EPA to place the property located at 30 Whitman Avenue, Edison Township, New Jersey (Property) for sale with a commercial real estate brokerage firm acceptable to EPA. Proceeds from the sale of the Property will be used to pay reasonably incurred closing costs as well as federal and state taxes owed on the proceeds of the sale. Thereafter, Piscataway Associates and Piscataway Associates Properties Corp. shall pay EPA 90% of the remaining sale proceeds as reimbursement of response costs incurred by EPA at the Chemical Insecticide Corporation Site.

A copy of the proposed administrative settlement, as well as background information relating to the settlement, may be obtained in person or by mail from EPA's Region II Office of Regional Counsel, 290 Broadway—17th Floor, New York, NY 100007.

Dated: September 27, 2001.
William J. Muszynki,
Acting Regional Administrator, Region 2.

[FR Doc. 01-27117 Filed 10-26-01; 8:45 am]

BILLING CODE 6560-50-P